DEPARTMENT OF ENERGY

Federal Energy Regulatory Commission

[Project No. 14797-001]

California Department of Water Resources; Notice of Intent To Prepare an Environmental Assessment

On November 20, 2019, the California Department of Water Resources (California DWR) filed an application for a new major license for the existing 279.7-megawatt Devil Canyon Project (FERC No. 14797).¹ The Devil Canyon Project is part of a larger water storage and delivery system, the State Water Project (SWP). The Devil Canyon Project is located along the East Branch of the SWP Aqueduct, in San Bernardino County, California. The project occupies 220.98 acres of federal lands administered by the U.S. Forest Service, as part of the San Bernardino National Forest.

¹ The proposed Devil Canyon Project is currently licensed as part of the South SWP Hydropower Project (FERC No. 2426). California DWR proposes to relicense the Devil Canyon Project separately.

In accordance with the Commission's regulations, on June 15, 2021, Commission staff issued a notice that the project was ready for environmental analysis (REA Notice). Based on the information in the record, including comments filed on the REA Notice, staff does not anticipate that licensing the project would constitute a major federal action significantly affecting the quality of the human environment. Therefore, staff intends to prepare a draft and final Environmental Assessment (EA) on the application to license the Devil Canyon Project.

The EA will be issued and circulated for review by all interested parties. All comments filed on the EA will be analyzed by staff and considered in the Commission's final licensing decision.

The application will be processed according to the following schedule. Revisions to the schedule may be made as appropriate.

² The Council on Environmental Quality's (CEQ) regulations under 40 CFR 1501.10(b)(1) require that EAs be completed within 1 year of the federal action agency's decision to prepare an EA. This notice establishes the Commission's intent to prepare a draft and final EA for the Devil Canyon Project. Therefore, in accordance with CEQ's regulations, the final EA must be issued within 1 year of the issuance date of this notice.

Milestone | Target Date
Commission issues draft EA | April 2023.
Comments on draft EA | May 2023.
Commission issues final EA | July 2023.²

Any questions regarding this notice may be directed to Quinn Emmering, the Commission's project coordinator for licensing the Devil Canyon Project, at (202) 502-6382 or at quinn.emmering@ferc.gov.

Dated: September 9, 2022.
Kimberly D. Bose,
Secretary.

[FR Doc. 2022-19985 Filed 9-14-22; 8:45 am]

BILLING CODE 6717-01-P